SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: December 1-31, 2015.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22 (f) for the time period specified above:

Approvals by Rule Issued Under 18 CFR 806.22(f):

1. WPX Energy Appalachia, LLC, Pad ID: Alder Run LP #5H, ABR-201512001, Cooper Township, Clearfield County, Pa.; Consumptive Use of Up to 4.0000 mgd; Approval Date: December 3, 2015.

2. Chesapeake Appalachia, LLC, Pad ID: DPH, ABR-201103011.R1, Windham Township, Wyoming County, Pa.; Consumptive Use of Up to 7.5000 mgd; Approval Date: December 3, 2015.

3. SWN Production Company, LLC, Pad ID: Depue Well #2H, ABR-201009098.R1, Franklin Township, Susquehanna County, Pa.; Consumptive Use of Up to 4.0000 mgd; Approval Date: December 3, 2015.

4. SWN Production Company, LLC, Pad ID: Hollenbeck ABR, ABR-201010017.R1, Franklin Township, Susquehanna County, Pa.; Consumptive Use of Up to 4.0000 mgd; Approval Date: December 3, 2015.

5. SWEPI LP, Pad ID: Bergey 1, ABR-201009056.R1, Gaines Township, Tioga County, Pa.; Consumptive Use of Up to 4.9900 mgd; Approval Date: December 3, 2015.

6. SWEPI LP, Pad ID: Spencer 729, ABR-201009065.R1, Liberty Township, Tioga County, Pa.; Consumptive Use of Up to 4.0000 mgd; Approval Date: December 3, 2015.

7. SWEPI LP, Pad ID: Burke 285, ABR-201009096.R1, Charleston Township, Tioga County, Pa.; Consumptive Use of Up to 4.0000 mgd; Approval Date: December 3, 2015.

8. SWEPI LP, Pad ID: Patterson 570, ABR-201009097.R1, Charleston Township, Tioga County, Pa.; Consumptive Use of Up to 4.0000 mgd; Approval Date: December 3, 2015.

9. SWEPI LP, Pad ID: Heath 418, ABR-201010011.R1, Delmar Township, Tioga County, Pa.; Consumptive Use of Up to 4.0000 mgd; Approval Date: December 3, 2015.

10. SWEPI LP, Pad ID: East Point Fish & Game Club 726, ABR-201010014.R1, Liberty Township, Tioga County, Pa.; Consumptive Use of Up to 4.0000 mgd; Approval Date: December 3, 2015.

11. Carrizo (Marcellus), LLC, Pad ID: Erickson Family Trust Pad, ABR-201107009.R1, Woodward Township, Clearfield County, Pa.; Consumptive Use of Up to 2.1000 mgd; Approval Date: December 8, 2015.

12. Carrizo (Marcellus), LLC, Pad ID: Cowfer B (CC-09) Pad, ABR-201107010.R1, Gulich Township, Clearfield County, Pa.; Consumptive Use of Up to 2.1000 mgd; Approval Date: December 8, 2015.

13. Carrizo (Marcellus), LLC, Pad ID: Hegarty (CC-04) Pad, ABR-201107013.R1, Beccaria Township, Clearfield County, Pa.; Consumptive Use of Up to 2.1000 mgd; Approval Date: December 8, 2015.

14. Carrizo (Marcellus), LLC, Pad ID: River Hill Power Karthaus Pad, ABR-201107014.R1, Karthaus Township, Clearfield County, Pa.; Consumptive Use of Up to 2.1000 mgd; Approval Date: December 8, 2015.

15. Chief Oil & Gas, LLC, Pad ID: W & L Wilson Drilling Pad #1, ABR-201103014.R1, Lemon Township, Wyoming County, Pa.; Consumptive Use of Up to 2.0000 mgd; Approval Date: December 8, 2015.

16. Chief Oil & Gas, LLC, Pad ID: PMG Annie Drilling Pad #1, ABR-201103015.R1, Springville Township, Susquehanna County, Pa.; Consumptive Use of Up to 2.0000 mgd; Approval Date: December 8, 2015.

17. Chief Oil & Gas, LLC, Pad ID: Noble Drilling Pad #1, ABR-201104015.R1, Brooklyn Township, Susquehanna County, Pa.; Consumptive Use of Up to 2.0000 mgd; Approval Date: December 8, 2015.

18. EOG Resources, Incorporated, Pad ID: NICHOLS 1H Pad, ABR-201008090.R1, Smithfield Township, Bradford County, Pa.; Consumptive Use of Up to 4.9990 mgd; Approval Date: December 8, 2015.

19. SWN Production Company, LLC, Pad ID: WY 09 OTTEN PAD, ABR-201512002, Forkston Township, Wyoming County, Pa.; Consumptive Use of Up to 4.9990 mgd; Approval Date: December 11, 2015.

20. Cabot Oil & Gas Corporation, Pad ID: AbbottD P2, ABR-201512003, Bridgewater Township, Susquehanna County, Pa.; Consumptive Use of Up to 4.2500 mgd; Approval Date: December 11, 2015.

21. Cabot Oil & Gas Corporation, Pad ID: HowellG P1, ABR-201512004, Auburn Township, Susquehanna County, Pa.; Consumptive Use of Up to 4.2750 mgd; Approval Date: December 11, 2015.

22. Cabot Oil & Gas Corporation, Pad ID: Jeffers Farm P5, ABR-201512005, Gibson Township, Susquehanna County, Pa.; Consumptive Use of Up to 4.2500 mgd; Approval Date: December 11, 2015.

23. Cabot Oil & Gas Corporation, Pad ID: JonesP P1, ABR-201512006, Forest Lake Township and Jessup Township, Susquehanna County, Pa.; Consumptive Use of Up to 4.2500 mgd; Approval Date: December 11, 2015.

24. Chesapeake Appalachia, LLC, Pad ID: Dziuba, ABR-201103012.R1, Tuscarora Township, Bradford County, Pa.; Consumptive Use of Up to 7.5000 mgd; Approval Date: December 11, 2015.

25. Chesapeake Appalachia, LLC, Pad ID: Burke, ABR-201103019.R1, Wilmot Township, Bradford County, Pa.; Consumptive Use of Up to 7.5000 mgd; Approval Date: December 11, 2015.

26. Chesapeake Appalachia, LLC, Pad ID: Jones Pad, ABR-201103022.R1, Standing Stone Township, Bradford County, Pa.; Consumptive Use of Up to 7.5000 mgd; Approval Date: December 11, 2015.

27. Chesapeake Appalachia, LLC, Pad ID: Sarah, ABR-201103041.R1, Athens Township, Bradford County, Pa.; Consumptive Use of Up to 7.5000 mgd; Approval Date: December 11, 2015.

28. Chesapeake Appalachia, LLC, Pad ID: Barclay, ABR-201103044.R1, Franklin Township, Bradford County, Pa.; Consumptive Use of Up to 7.5000 mgd; Approval Date: December 11, 2015.

29. Chesapeake Appalachia, LLC, Pad ID: Hi-Lev, ABR-201103051.R1, Troy Township, Bradford County, Pa.; Consumptive Use of Up to 7.5000 mgd; Approval Date: December 11, 2015.

30. Chesapeake Appalachia, LLC, Pad ID: Acton, ABR-201103313.R1, Rome Township, Bradford County, Pa.; Consumptive Use of Up to 7.5000 mgd; Approval Date: December 11, 2015.

31. Chief Oil & Gas, LLC, Pad ID: Kerrick Drilling Pad #1, ABR-201103040.R1, Asylum Township, Bradford County, Pa.; Consumptive Use of Up to 2.0000 mgd; Approval Date: December 11, 2015.

32. EOG Resources, Incorporated, Pad ID: TYLER Pad, ABR-201008153.R1, Springfield Township, Bradford County, Pa.; Consumptive Use of Up to 4.9990 mgd; Approval Date: December 11, 2015.

33. WPX Energy Appalachia, LLC, Pad ID: Alder Run Land LP 2H, ABR-20100454.R1, Cooper Township, Clearfield County, Pa.; Consumptive Use of Up to 2.0000 mgd; Approval Date: December 11, 2015.

34. EOG Resources, Incorporated, Pad ID: SGL 90 E Pad, ABR-201512008, Lawrence Township, Clearfield County, Pa.; Consumptive Use of Up to 5.0000 mgd; Approval Date: December 21, 2015.

35. EOG Resources, Incorporated, Pad ID: DEMEO 1H Pad, ABR-201009106.R1, Ridgebury Township, Bradford County, Pa.; Consumptive Use of Up to 4.9990 mgd; Approval Date: December 21, 2015.

36. SWN Production Company, LLC, Pad ID: Tall Maples, ABR-201010056.R1, Elkland Township, Sullivan County, Pa.; Consumptive Use of Up to 7.5000 mgd; Approval Date: December 21, 2015.

37. Seneca Resources Corporation, Pad ID: C09-E, ABR-201512009, Shippen Township, Cameron County, Pa.; Consumptive Use of Up to 4.0000 mgd; Approval Date: December 21, 2015.

38. SWEPI LP, Pad ID: Owlett 843, ABR-201009058.R1, Middlebury Township, Tioga County, Pa.; Consumptive Use of Up to 4.0000 mgd; Approval Date: December 21, 2015.

39. SWEPI LP, Pad ID: Seymour 599, ABR-201009063.R1, Sullivan Township, Tioga County, Pa.; Consumptive Use of Up to 4.0000 mgd; Approval Date: December 21, 2015.

40. SWEPI LP, Pad ID: Schmelzle 703, ABR-201009064.R1, Union Township, Tioga County, Pa.; Consumptive Use of Up to 4.0000 mgd; Approval Date: December 21, 2015.

41. SWEPI LP, Pad ID: Empson 899, ABR-201009095.R1, Deerfield Township, Tioga County, Pa.; Consumptive Use of Up to 4.0000 mgd; Approval Date: December 21, 2015.

42. SWEPI LP, Pad ID: Red Run Mountain Inc. 739, ABR-201010006.R1, McIntyre Township, Lycoming County, Pa.; Consumptive Use of Up to 4.0000 mgd; Approval Date: December 21, 2015.

43. SWEPI LP, Pad ID: Heuer 701, ABR-201010010.R1, Union Township, Tioga County, Pa.; Consumptive Use of Up to 4.0000 mgd; Approval Date: December 21, 2015.

44. SWEPI LP, Pad ID: Redl 600, ABR-201010013.R1, Sullivan Township, Tioga County, Pa.; Consumptive Use of Up to 4.0000 mgd; Approval Date: December 21, 2015.

45. SWEPI LP, Pad ID: Signor 578, ABR-201010023.R1, Charleston Township, Tioga County, Pa.; Consumptive Use of Up to 4.0000 mgd; Approval Date: December 21, 2015.

46. SWEPI LP, Pad ID: Harman 565, ABR-201010028.R1, Charleston Township, Tioga County, Pa.; Consumptive Use of Up to 4.0000 mgd; Approval Date: December 21, 2015.

47. SWEPI LP, Pad ID: Hudson 575, ABR-201010029.R1, Charleston Township, Tioga County, Pa.; Consumptive Use of Up to 4.0000 mgd; Approval Date: December 21, 2015.

48. XTO Energy Incorporated, Pad ID: Renn Unit A, ABR-201103033.R1, Jordan Township, Lycoming County, Pa.; Consumptive Use of Up to 4.0000 mgd; Approval Date: December 21, 2015.

49. XTO Energy Incorporated, Pad ID: PA TRACT 8524H, ABR-201104023.R1, Chapman Township, Clinton County, Pa.; Consumptive Use of Up to 4.0000 mgd; Approval Date: December 21, 2015.

50. SWEPI LP, Pad ID: Old Possessions Hunting Club 485, ABR-201008117.R1, Sullivan Township, Tioga County, Pa.; Consumptive Use of Up to 4.0000 mgd; Approval Date: December 21, 2015.

51. SWN Production Company, LLC, Pad ID: GU-X SEYMOUR PAD, ABR-201512010, Stevens Township, Bradford County; and Rush Township, Susquehanna County, Pa.; Consumptive Use of Up to 4.9990 mgd; Approval Date: December 23, 2015.

52. Carrizo (Marcellus), LLC, Pad ID: Baker North, ABR-201012040.R1, Forest Lake Township, Susquehanna County, Pa.; Consumptive Use of Up to 2.1000 mgd; Approval Date: December 23, 2015.

53. Triana Energy, LLC, Pad ID: Triana-Young Pad A, ABR-20100677.R1, Hector Township, Potter County, Pa.; Consumptive Use of Up to 6.0000 mgd; Approval Date: December 23, 2015.

54. Carrizo (Marcellus), LLC, Pad ID: Giangrieco Pad, ABR-201107011.R1, Forest Lake Township, Susquehanna County, Pa.; Consumptive Use of Up to 2.1000 mgd; Approval Date: December 28, 2015.

55. Chesapeake Appalachia, LLC, Pad ID: Stempel, ABR-201104020.R1, Asylum Township, Bradford County, Pa.; Consumptive Use of Up to 7.5000 mgd; Approval Date: December 28, 2015.

56. Chesapeake Appalachia, LLC, Pad ID: Crain, ABR-201104028.R1, Rome Township, Bradford County, Pa.; Consumptive Use of Up to 7.5000 mgd; Approval Date: December 28, 2015.

57. Chesapeake Appalachia, LLC, Pad ID: MPC New, ABR-201104030.R1, Cherry Township, Sullivan County, Pa.; Consumptive Use of Up to 7.5000 mgd; Approval Date: December 28, 2015.

58. EXCO Resources (PA), LLC, Pad ID: Houseknecht Drilling Pad #1, ABR-201012014.R1, Davidson Township, Sullivan County, Pa.; Consumptive Use of Up to 8.0000 mgd; Approval Date: December 28, 2015.

59. EXCO Resources (PA), LLC, Pad ID: Doebler Drilling Pad #1, ABR-201012033.R1, Penn Township, Lycoming County, Pa.; Consumptive Use of Up to 8.0000 mgd; Approval Date: December 28, 2015.

60. Talisman Energy USA Inc., Pad ID: 05 040 Cook, ABR-201010021.R1, Orwell Township, Bradford County, Pa.; Consumptive Use of Up to 6.0000 mgd; Approval Date: December 28, 2015.

61. Talisman Energy USA Inc., Pad ID: 05 022 DeCristo, ABR-201010026.R1, Warren Township, Bradford County, Pa.; Consumptive Use of Up to 6.0000 mgd; Approval Date: December 28, 2015.

62. Talisman Energy USA Inc., Pad ID: 05 129 Upham R, ABR-201010032.R1, Pike Township, Bradford County, Pa.; Consumptive Use of Up to 6.0000 mgd; Approval Date: December 28, 2015.

63. Talisman Energy USA Inc., Pad ID: 05 097 Hartnett, ABR-201010045.R1, Warren Township, Bradford County, Pa.; Consumptive Use of Up to 6.0000 mgd; Approval Date: December 28, 2015.

64. Talisman Energy USA Inc., Pad ID: 05 056 Miller, ABR-201010098.R1, Warren Township, Bradford County, Pa.; Consumptive Use of Up to 6.0000 mgd; Approval Date: December 28, 2015.

65. Talisman Energy USA Inc., Pad ID: 05 073 Harvey, ABR-201011031.R1, Orwell Township, Bradford County, Pa.; Consumptive Use of Up to 6.0000 mgd; Approval Date: December 28, 2015.

66. Talisman Energy USA Inc., Pad ID: 05 028 Neville V, ABR-201011033.R1, Warren Township, Bradford County, Pa.; Consumptive Use of Up to 6.0000 mgd; Approval Date: December 28, 2015.

67. Talisman Energy USA Inc., Pad ID: 05 082 Abell Living Trust, ABR-201011052.R1, Warren Township, Bradford County, Pa.; Consumptive Use of Up to 6.0000 mgd; Approval Date: December 28, 2015.

68. Talisman Energy USA Inc., Pad ID: 05 180 Peck Hill Farm, ABR-201011056.R1, Windham Township, Bradford County, Pa.; Consumptive Use of Up to 6.0000 mgd; Approval Date: December 28, 2015.

69. Talisman Energy USA Inc., Pad ID: 05 058 Vough, ABR-201011063.R1, Orwell Township, Bradford County, Pa.; Consumptive Use of Up to 6.0000 mgd; Approval Date: December 28, 2015.

70. Talisman Energy USA Inc., Pad ID: 05 165 Hutchinson, ABR-201011064.R1, Warren Township, Bradford County, Pa.; Consumptive Use of Up to 6.0000 mgd; Approval Date: December 28, 2015.

71. Talisman Energy USA Inc., Pad ID: 05 223 Wheaton, ABR-201011072.R1, Windham Township, Bradford County, Pa.; Consumptive Use of Up to 6.0000 mgd; Approval Date: December 28, 2015.

Authority: Pub. L. 91-575, 84 Stat. 1509 et seq., 18 CFR parts 806, 807, and 808.

Dated: January 14, 2016.
Stephanie L. Richardson,
Secretary to the Commission.

[FR Doc. 2016-01000 Filed 1-19-16; 8:45 am]

BILLING CODE 7040-01-P